DEPARTMENT OF THE TREASURY

Internal Revenue Service

Open Meeting of the Taxpayer Advocacy Panel Toll-Free Phone Line Project Committee; Correction

AGENCY: Internal Revenue Service (IRS), Treasury.

ACTION: Notice of meeting; correction.

SUMMARY: In the Federal Register notice that was originally published on July 8, 2016, (Volume 81, Number 131, Page 44686) the date was August 17, 2016 at 2:30 p.m., Eastern Time. The new meeting date is: Wednesday, August 24, 2016, at 2:30 p.m., Eastern Time.

DATES: The meeting will be held Wednesday, August 24, 2016.

FOR FURTHER INFORMATION CONTACT: Linda Rivera at 1-888-912-1227 or (202) 317-3337.

SUPPLEMENTARY INFORMATION: Notice is hereby given pursuant to Section 10(a)(2) of the Federal Advisory Committee Act, 5 U.S.C. App. (1988) that an open meeting of the Taxpayer Advocacy Panel Toll Free Project Committee will be held Wednesday, August 24, 2016, at 2:30 p.m. Eastern Time via teleconference. The public is invited to make oral comments or submit written statements for consideration. Due to limited conference lines, notification of intent to participate must be made with Linda Rivera. For more information please contact: Ms. Rivera at 1-888-912-1227 or (202) 317-3337, or write TAP Office, 1111 Constitution Avenue NW., Room 1509—National Office, Washington, DC 20224, or contact us at the Web site: http://www.improveirs.org.

The committee will be discussing Toll-free issues and public input is welcomed.

Dated: July 27, 2016.
Shawn Collins,
Acting Director, Taxpayer Advocacy Panel.

[FR Doc. 2016-18625 Filed 8-4-16; 8:45 am]

BILLING CODE 4830-01-P